SMALL BUSINESS ADMINISTRATION

[Disaster Declaration # 10205 and # 10206]

Louisiana Disaster Number LA-00004

AGENCY: Small Business Administration.

ACTION: Amendment 4.

SUMMARY: This is an amendment of the Presidential declaration of a major disaster for the State of Louisiana (FEMA-1607-DR), dated 9/24/2005.

Incident: Hurricane Rita.

Incident Period: 9/23/2005 and continuing.

Effective Date: 10/03/2005.

Physical Loan Application Deadline Date: 11/23/2005.

EIDL Loan Application Deadline Date: 6/26/2006.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: The notice of the Presidential disaster declaration for the State of Louisiana, dated 09/24/2005, is hereby amended to include the following areas as adversely affected by the disaster:

Primary Parishes: Evangeline, Jefferson, Plaquemines, Sabine, Saint Landry.

Contiguous Parishes/Counties:

Louisiana: Avoyelles, De Soto, Orleans, Saint Bernard, Saint Tammany, Tangipahoa.

Texas: Sabine, Shelby.

All other information in the original declaration remains unchanged.

(Catalog of Federal Domestic Assistance Numbers 59002 and 59008)
Herbert L. Mitchell,
Associate Administrator for Disaster Assistance.

[FR Doc. 05-20639 Filed 10-14-05; 8:45 am]

BILLING CODE 8025-01-P